NATIONAL TRANSPORTATION SAFETY BOARD

Notice of Public Forum

On Wednesday, October 14, 2015, the National Transportation Safety Board (NTSB) will convene a forum titled Humans and Hardware: Preventing Inflight Loss of Control in General Aviation. The forum will begin at 9:00 a.m. and is open to all. Attendance is free, and no registration is required. NTSB Board Member Earl F. Weener will serve as the presiding officer of the forum. Invited panelists will include representatives from the Federal Aviation Administration, researchers, and industry and advocacy groups.

Below is the preliminary agenda.

Wednesday, October 14, 2015 (9:00 a.m. to 5:00 p.m.)

1. Opening Statement by Member Weener

2. Staff Presentation on Loss of Control Statistics

3. Presentations on Industry and Government Perspectives and Actions

4. Questions from Member Weener and the Technical Panel

5. Presentations on Human Performance and Medical Issues

6. Questions from Member Weener and the Technical Panel

7. Presentations on Pilot Training Solutions

8. Questions from Member Weener and the Technical Panel

9. Presentations on Equipment and Technology Solutions

10. Questions from Member Weener and the Technical Panel

11. Open Discussion

12. Closing Statement by Member Weener

Unless otherwise noted, the forum will be held in the NTSB Board Room and Conference Center, located at 429 L'Enfant Plaza SW., Washington, DC. The public can view the forum in person or via live webcast at www.ntsb.gov. Webcast archives are generally available by the end of the day after the forum, and webcasts are archived for 3 months after the date of the event.

Individuals requiring reasonable accommodation and/or wheelchair access directions should contact Rochelle Hall at (202) 314-6305 or by email at Rochelle.Hall@ntsb.gov by Wednesday, October 7, 2015.

NTSB Media Contact: Peter Knudson-peter.knudson@ntsb.gov.

NTSB Forum Manager: Dr. Kristi Dunks-kristi.dunks@ntsb.gov.

Candi R. Bing,
Federal Register Liaison Officer.

[FR Doc. 2015-24143 Filed 9-22-15; 8:45 am]

BILLING CODE P